ENVIRONMENTAL PROTECTION AGENCY

40 CFR Part 52

[EPA-R01-OAR-2017-0697; FRL-12048-01-R1]

Air Plan Approval; Connecticut; Low Emissions Vehicles Program

AGENCY: Environmental Protection Agency (EPA).

ACTION: Final rule.

SUMMARY: The Environmental Protection Agency (EPA) is approving a State Implementation Plan (SIP) revision submitted by the State of Connecticut on December 14, 2015. This SIP revision includes Connecticut's revised regulations for new motor vehicle emission standards. Connecticut updated its motor vehicle emission regulations to adopt California's Advanced Clean Car (ACC) I program that includes California's low emission vehicle (LEV) III criteria pollutant standards and zero-emission vehicle (ZEV) sales requirements through the 2025 model year, and greenhouse gas (GHG) emissions standards that commence in the 2017 model year. Connecticut ensured that its regulations are identical to the California standards for which a waiver has been granted, as required by the Clean Air Act (CAA).

DATES: This rule is effective on August 14, 2024.

ADDRESSES: EPA has established a docket for this action under Docket Identification No. EPA-R01-OAR-2017-0697. All documents in the docket are listed on the https://www.regulations.gov website. Although listed in the index, some information is not publicly available, i.e., CBI or other information whose disclosure is restricted by statute. Certain other material, such as copyrighted material, is not placed on the internet and will be publicly available only in hard copy form. Publicly available docket materials are available at https://www.regulations.gov or at the U.S. Environmental Protection Agency, EPA Region 1 Regional Office, Air and Radiation Division, 5 Post Office Square—Suite 100, Boston, MA. EPA requests that, if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: Eric Rackauskas, Air Quality Branch, U.S. Environmental Protection Agency, EPA Region 1, 5 Post Office Square—Suite 100 (Mail code 5-MI), Boston, MA 02109-3912, tel. (617) 918-1628, email rackauskas.eric@epa.gov.

SUPPLEMENTARY INFORMATION: Throughout this document whenever “we,” “us,” or “our” is used, we mean EPA.

Table of Contents

I. Background and Purpose

II. Response to Comments

III. Final Action

IV. Incorporation by Reference

V. Statutory and Executive Order Reviews

I. Background and Purpose

On January 16, 2018 (83 FR 2097), EPA published a Notice of Proposed Rulemaking (NPRM) proposing approval of Connecticut's amended Section 22(a)-174-36b (Low Emission Vehicle II Program) (LEV II) and the newly adopted Section 22a-174-36c (Low Emission Vehicle III Program) (LEV III) of the Connecticut State Regulations into the Connecticut SIP.¹ Connecticut's “LEV III regulation” adopts all of California's ACC I program. California's ACC I program is comprised of what it terms LEV III (which includes criteria pollutants emission standards and greenhouse gas emission standards), and a zero-emissions vehicle sales requirement. Connecticut's emission limits apply to new passenger cars, light-duty trucks, and medium-duty passenger vehicles sold, leased, imported, delivered, purchased, rented, acquired, or received in the State of Connecticut. Connecticut has adopted these rules to reduce emissions of volatile organic compounds (VOC), particulate matter (PM), and nitrogen oxides (NOX) in accordance with the requirements of the Clean Air Act (CAA), as well as to reduce greenhouse gases. Connecticut has adopted standards that are identical to the California standards that have been issued a waiver by EPA.² Other specific requirements of Connecticut's December 14, 2015, SIP revision and the rationale for EPA's proposed action are explained in the NPRM and will not be restated here. EPA received both supportive and adverse comments on the proposed Connecticut SIP revision.

¹ See EPA's Notice of Proposed Rulemaking for more information on CT's SIP submittal.

² EPA issued a waiver of preemption under section 209 of the CAA for California's Advanced Clean Car program (that includes its LEV III and ZEV programs) on January 9, 2013 (78 FR 2211). EPA issued a section 209 waiver for California's LEV II program on April 22, 2003 (68 FR 19811); see also 70 FR 22034 (April 28, 2005), 75 FR 41948 (July 30, 2010). EPA reinstated the ACC I waiver on March 14, 2022 (87 FR 14332).

II. Response to Comments

EPA received two comments in support of EPA's proposed approval of Connecticut's SIP revision. The first comment stated that EPA, “correctly determined that the emission standards in Connecticut's SIP revision are identical to the relevant California Standards” and satisfy the requirements of the CAA. The second comment supported Connecticut's action and encouraged similar action in more states throughout the country. In addition, EPA received comments criticizing some technical aspects of the California Advanced Clean Car I (ACC I) program being adopted by Connecticut under the proposed Connecticut SIP revision.

Under CAA section 209(a), states are generally preempted from either adopting or enforcing emissions standards for new motor vehicles and engines. CAA section 209(b) allows EPA to waive this preemption for the State of California subject to listed criteria. Additionally, under CAA section 177, “any state which has plan provisions approved under this part ³ may adopt and enforce for any model year standards relating to control of emissions from new motor vehicles or new motor vehicle engines.”

³ “This part” refers to Part D of Title I of the CAA. Part D contains requirements for nonattainment and maintenance areas and states within the Ozone Transport Region as defined in CAA section 184(a).

Specifically, section 177 of the CAA allows a state to adopt the California emissions standards if:

(1) Such standards are identical to the California standards for which a waiver has been granted for such model year, and

(2) California and such State adopt such standards at least two years before commencement of such model year.

EPA did not receive any comments challenging either of the above criteria. As such, EPA views the comments received as beyond the scope of this action. In this action, EPA is only approving Connecticut's adoption of standards into its SIP under CAA section 177 for which EPA has already granted a waiver of preemption to California (under CAA section 209(b)). To the extent commenters are challenging the ACC I program standards themselves, we note that there is no discretion to modify those standards because under CAA section 177, Connecticut cannot adopt standards that are not identical to the California standards. Therefore, challenges to the ACC I standards themselves are outside the scope of the present action. For example, comments pertaining to battery safety, mining of rare earth elements, and the greenhouse gas footprint of electric cars are beyond the scope of this action because they do not address Connecticut's authority to adopt these standards under Section 177 of the CAA. The standards at issue (LEV III criteria pollutant standards and GHG emission standards, and ZEV sales requirements, that all comprise the ACC I program) are the types of California standards that can be adopted into a state's SIP under the provisions of section 177 of the CAA and are not subject to preemption under section 209 of the CAA, so long as the underlying California standards have been waived under section 209(b) and the other criteria of section 177 have been met. Here, the ACC I standards have been waived by EPA and the other criteria in section 177 have been met.⁴

⁴ EPA also did not receive any comments that challenged the approvability of the standards under section 110 of the CAA.

As explained in the NPRM, EPA proposed approval of Connecticut's SIP revision incorporating California motor vehicle emissions standards into Connecticut's SIP (83 FR 2097). Specifically, the SIP revision adopts California's ACC I program regulations for which EPA had previously granted a waiver of preemption to California under CAA section 209(b) (78 FR 2112; see also 87 FR 14332). The ACC I program comprises regulations for ZEV and LEV, which include standards for criteria pollutants for new passenger cars, light-duty trucks, medium-duty passenger vehicles, and certain heavy-duty vehicles for model years 2015 through 2025. The ACC I program also includes GHG emission standards that are applicable to 2017 and subsequent model year vehicles. A complete description of the ACC I program can be found at 78 FR 2114, 2122, 2130-31 and in California Air Resources Board's (CARB) 209(b) waiver request, which is available in the docket for the January 2013 waiver decision, Docket Id. EPA-HQ-OAR-2012-0562.⁵

⁵ See also 87 FR 14332.

CAA section 110(a)(1) requires that SIPs provide for the implementation, maintenance, and enforcement of the NAAQS. As noted in the NPRM, Connecticut adopted the ACC I regulations to reduce emissions of volatile organic compounds (VOC), particulate matter (PM), and nitrogen oxides (NOX), as well as to reduce GHG emissions. NOX and VOC are precursors of both ozone and PM, and reductions in NOX and VOC emissions can therefore decrease the concentration of these criteria pollutants.⁶ The LEV III, GHG emissions and ACC I passenger vehicle ZEV standards that we are approving into Connecticut's SIP will decrease NOX and VOC emissions, which, along with other emission control measures in the SIP, will assist the State in achieving the emissions reductions needed to comply with the various nonattainment and maintenance planning requirements of the CAA.⁷ As such, we believe that inclusion of the LEV III, GHG, and ZEV portions of the ACC I program in the Connecticut SIP is appropriate under CAA section 110(a)(1).

⁶ In its notice of decision granting a waiver of CAA preemption for the ACC I regulations, EPA discussed the types of air pollution and emission benefits identified by CARB in its ACC I rulemaking associated with its passenger vehicle LEV III, GHG, and ZEV standards (78 FR 2112, 2122). In subsequent documentation, CARB further identified air pollution and emission benefits of its GHG emission and passenger vehicle ZEV standards (both within the ACC I program) that have a connection to a number of NAAQS, including the PM and ozone NAAQS. See CARB, Staff Report, Attachment B to Executive Order S-21-010 (“Emissions Benefits of California's Passenger Vehicle GHG Standards”), dated July 2, 2021; see also CARB, Staff Report, Appendix A—Criteria Pollutant Emission reductions from California's Zero Emission Vehicle Standards for Model Years 2017-2025, dated July 6, 2021. While CARB's estimates of the criteria pollutant precursor reductions resulting from adoption of these standards are specific to California, CARB's analysis supports the connection between adoption of the GHG standards and resulting criteria pollutant precursor reductions.

⁷ Connecticut remains in nonattainment status for the 2008 and 2015 ozone standards, and in maintenance for the 1997 and 2006 PM2.5 standards. See EPA's Green Book: https://www.epa.gov/green-book.

III. Final Action

EPA is finalizing its proposed approval of Connecticut's December 14, 2015, SIP revision. Specifically, EPA is approving Connecticut's SIP revision adopting California's Advanced Clean Car I program into its SIP, which includes California's low emission vehicle (LEV) III criteria pollutant standards GHG emission standards that commence in the 2017 model year, and zero-emission vehicle (ZEV) sales requirements through the 2025 model year.

EPA is approving this SIP revision because it meets all applicable requirements of the Clean Air Act, including CAA section 110(l), because it will not interfere with any applicable requirement concerning attainment and reasonable further progress, or any other applicable requirement of the Act.

IV. Incorporation by Reference

In this rule, the EPA is finalizing regulatory text that includes incorporation by reference. In accordance with requirements of 1 CFR 51.5, the EPA is finalizing the incorporation by reference of the Connecticut Department of Energy and Environmental Protection's adoption of the California Advanced Clean Car I program, in Sections 22(a)-174-36b and 22a-174-36c of the Regulations of Connecticut State Agencies, as discussed in sections I. and III. of this preamble and set forth below in the amendments to 40 CFR part 52. The EPA has made, and will continue to make, these documents generally available through https://www.regulations.gov and at the EPA Region 1 Office (please contact the person identified in the FOR FURTHER INFORMATION CONTACT section of this preamble for more information).

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

The Connecticut Department of Environmental Protection did not evaluate environmental justice considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving environmental justice for people of color, low-income populations, and Indigenous peoples.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 13, 2024. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: June 28, 2024.
David Cash,
Regional Administrator, EPA Region 1.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart H—Connecticut

2. Section 52.370 is amended by adding paragraph (c)(132) to read as follows:

§ 52.370 Identification of plan.

* * * * *

(c) * * *

(132) Revisions to the State Implementation Plan submitted by the Connecticut Department of Environmental Protection on December 14, 2015.

(i) Incorporation by reference.

(A) Regulations of Connecticut State Agencies, Regulation 22a-174-36b, “Low emission vehicles II program,” amended August 1, 2013.

(B) Regulations of Connecticut State Agencies, Regulation 22a-174-36c, “Low Emission Vehicle III Program,” effective August 1, 2013.

(ii) Additional materials.

(A) Letter from the Connecticut Department of Energy and Environmental Protection, dated December 14, 2015, submitting a revision to the Connecticut State Implementation Plan.

3. Section 52.385, is amended in Table 52.385 by:

a. adding a third entry for state citation “22a-174-36b” before the entry for “22a-174-36(g)”; and

b. adding an entry for state citation “22a-174-36c” before the entry for “22a-174-36(g)”.

The additions read as follows:

§ 52.385 EPA-approved Connecticut regulations.

* * * * *

Table 52.385—EPA-Approved Regulations
Connecticut State citation | Title/subject | Dates: Date adopted by State | Dates: Date approved by EPA | Federal Register citation | Section 52.370 | Comments/description
* * * * * * *
22a-174-36b | Low Emission Vehicle II Program | 8/1/13 | 7/15/2024 | [Insert Federal Register citation] | (c)(132) | Revises LEV II program, places end date on model year vehicles.
22a-174-36c | Low Emission Vehicle III Program | 8/1/13 | 7/15/2024 | [Insert Federal Register citation] | (c)(132) | Adopts the LEV III regulation.
* * * * * * *

[FR Doc. 2024-15225 Filed 7-12-24; 8:45 am]

BILLING CODE 6560-50-P